DEPARTMENT OF HOMELAND SECURITY

Coast Guard

[CGD08-05-054]

Houston-Galveston Area Maritime Security Committee

AGENCY: Coast Guard, DHS.

ACTION: Solicitation for membership.

SUMMARY: Under the Maritime Transportation Security Act of 2002, the Secretary of Homeland Security has established an Area Maritime Security Committee under the direction of the Houston-Galveston Captain of the Port. The Houston-Galveston Captain of the Port is hereby requesting qualified individuals interested in serving on this committee to apply for membership.

DATES: Requests for membership should reach the Captain of the Port on or before February 8, 2006.

ADDRESSES: Requests for membership should be submitted to MSO Houston-Galveston, AMSC Executive Administrator, 9640 Clinton Drive, Houston TX 77029.

FOR FURTHER INFORMATION CONTACT: For questions on the Houston-Galveston Area Maritime Security Committee or its charter, contact Ms. Tobi Moore, AMSC Executive Administrator, at (713) 671-5118.

SUPPLEMENTARY INFORMATION: Establishment of Area Maritime Security Advisory Committees

Section 102 of the Maritime Transportation Security Act (MTSA) of 2002 (Pub. L. 107-295) added section 70112 to Title 46 of the U.S. Code, and authorizes the Secretary of the Department in which the Coast Guard is operating to establish Area Maritime Security Advisory Committees (AMS Committees) for any port area of the United States. The MTSA includes a provision exempting these AMS Committees from the Federal Advisory Committee Act (FACA), Public Law 92-436, 86 Stat. 470 (5 U.S.C. App. 2). The AMS Committee assists the Captain of the Port in the review and update of the AMS Plan for the Houston, Galveston, Freeport and Texas City area of responsibility. Such matters may include, but are not limited to:

• Identifying critical port infrastrucutre and operations;

• Identifying risks (threats, vulnerabilities, and consequences);

• Determining mitigation strategies and implementation methods;

• Developing and describing the process to continually evaluate overall port security by considering consequences and vulnerabilities, how they may change over time, and what additional mitigation strategies can be applied; and

• Providing advice to, and assisting the Captain of the Port in, reviewing and updating the Houston-Galveston Area Maritime Security Plan.

This committee meets the last Thursday of odd-numbered months. Subcommittees, work groups and task forces convene between meetings of the parent committee. AMS Committee meeting location is currently at the Port of Houston Authority, 111 East Loop, Houston, TX at 9 a.m.

AMS Committee Membership

The following appointed membership vacancies currently exist:

Docks & Terminals primary;

Shipyard primary and alternate;

Trucking industry alternate;

Fleets primary;

Harbor tugs primary;

Port of Texas City alternate;

Rail primary;

Barges primary; and

Offshore carriers primary.

Request applicants possess at least 5 years of experience related to maritime or port security operations. Total number of members is determined by the COTP. Applicants may be required to pass an appropriate security background check prior to appointment to the committee.

Members' term of office will be for 5 years. Members are eligible to serve an additional term of office. Members will not receive any salary or other compensation for their service on the AMS Committee.

In support of the policy of the USCG on gender and ethnic diversity, we encourage qualified women and members of minority groups to apply.

Request for Applications

Those seeking membership are not required to submit formal applications to the local COTP; however, because we do have an obligation to ensure that a specific number of members have the prerequisite maritime security experience, we encourage the submission of résumés highlighting experience in the maritime and security industries.

Dated: December 12, 2005.
R.F. Duncan,
Rear Admiral, U.S. Coast Guard, Commander, Eighth Coast Guard District.

[FR Doc. 06-162 Filed 1-6-06; 8:45 am]

BILLING CODE 4910-15-M